Title 3—

The President

Proclamation 8906 of November 16, 2012

National Family Week, 2012

By the President of the United States of America

A Proclamation

The bonds that tie us to our loved ones have always played an important role in the American story. Families of every makeup continue to guide our country's progress by supporting one another with unshakable devotion and instilling strength of character in their children. This week, we celebrate the unity and compassion that keep our families strong.

Every family deserves the chance to make a better future for themselves and their children. That is why strong families will always be at the heart of my Administration’s agenda—from the classroom to the workplace to our military. Over the past 4 years, we have worked to bring a complete and competitive education within reach for all our children, and we have striven to help them grow up healthy by broadening access to nutritious meals. To ensure families have health coverage when they need it most, the Affordable Care Act put in place comprehensive reforms that will hold insurance companies accountable, improve health care quality, and expand access to affordable coverage. My Administration has also pursued greater workplace flexibility, so working parents do not face a choice between their jobs and meeting their families’ needs. Moreover, we continue to promote the critical role fathers can play in enhancing the intellectual, emotional, and financial well-being of our sons and daughters. Finally, at a time when many of our military families are stretched thin, we are mobilizing communities and organizations nationwide to give our service members and their loved ones the support they have earned.

America’s prosperity has always come from an economy that is built on a strong and growing middle class—families who can own homes, send their kids to college, and save enough for retirement. As our economic recovery continues, we must keep working to give them the security they deserve, and to widen the circle of opportunity for all who are working hard to get ahead. During National Family Week, let us recommit to keeping America's promise alive for every family.

NOW, THEREFORE, I, BARACK OBAMA, President of the United States of America, by virtue of the authority vested in me by the Constitution and the laws of the United States, do hereby proclaim November 18 through November 24, 2012, as National Family Week. I invite all States, communities, and individuals to join in observing this week with appropriate ceremonies and activities to honor our Nation’s families.

IN WITNESS WHEREOF, I have hereunto set my hand this sixteenth day of November, in the year of our Lord two thousand twelve, and of the Independence of the United States of America the two hundred and thirty-seventh.

[FR Doc. 2012-28457

Filed 11-20-12; 8:45 am]

Billing code 3295-F3